DEPARTMENT OF TRANSPORTATION

Federal Aviation Administration

14 CFR Part 39

[Docket No. FAA-2015-1278; Directorate Identifier 2014-NM-223-AD; Amendment 39-18155; AD 2015-09-09]

RIN 2120-AA64

Airworthiness Directives; The Boeing Company Airplanes

AGENCY: Federal Aviation Administration (FAA), DOT.

ACTION: Final rule; request for comments.

SUMMARY: We are superseding Airworthiness Directive (AD) 2004-07-11 for all The Boeing Company Model 767-400ER series airplanes. AD 2004-07-11 requires repetitive high frequency eddy current (HFEC) inspections of the aft lower lugs of the deflection control track of the outboard flap for cracks, and replacement of any cracked deflection control track with a new track assembly. This AD retains those requirements, provides optional terminating action for the repetitive inspections, and adds airplane models to the applicability. This AD was prompted by our determination that additional airplane models require repetitive HFEC inspections of the aft lower lugs of the deflection control track of the outboard flap for cracks, and replacement of any cracked deflection control track with a new track assembly. We are issuing this AD to detect and correct fatigue cracking in the aft lower lug run-out region of the deflection control track, which could result in the loss of the secondary load path for the outboard flap, resulting in the loss of the outboard flap and consequent reduced controllability of the airplane in the event that the primary load path also fails.

DATES: This AD is effective May 27, 2015.

The Director of the Federal Register approved the incorporation by reference of a certain publication listed in this AD as of May 27, 2015.

The Director of the Federal Register approved the incorporation by reference of a certain other publication listed in this AD as of May 11, 2004 (69 FR 17911, April 6, 2004).

We must receive any comments on this AD by June 26, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-1278.

Examining the AD Docket

You may examine the AD docket on the Internet at http://www.regulations.gov by searching for and locating Docket No. FAA-2015-1278; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Berhane Alazar, Aerospace Engineer, Airframe Branch, ANM-120S, FAA, Seattle Aircraft Certification Office (ACO), 1601 Lind Avenue SW., Renton, WA 98057-3356; phone: 425-917-6577; fax: 425-917-6590; email: berhane.alazar@faa.gov.

SUPPLEMENTARY INFORMATION:

Discussion

On March 22, 2004, we issued AD 2004-07-11, Amendment 39-13555 (69 FR 17911, April 6, 2004), for all The Boeing Company Model 767-400ER series airplanes. AD 2004-07-11 required repetitive HFEC inspections of the aft lower lugs of the deflection control track of the outboard flap for cracks, and replacement of any cracked deflection control track with a new track assembly. AD 2004-07-11 resulted from reports of fatigue cracking in the aft lower lug run-out region of the deflection control track. We issued AD 2004-07-11 to detect and correct fatigue cracking of the deflection control track, which could result in the loss of the secondary load path for the outboard flap, resulting in the loss of the outboard flap and consequent reduced controllability of the airplane in the event that the primary load path also fails.

Actions Since AD 2004-07-11, Amendment 39-13555 (69 FR 17911, April 6, 2004) Was Issued

Since we issued AD 2004-07-11, Amendment 39-13555 (69 FR 17911, April 6, 2004), we have determined that additional airplane models are subject to the identified unsafe condition. The flap installations on certain Model 767-200 and -300 series airplanes, serial numbers 922 through 933 inclusive, are identical to those installed on Model 767-400ER series airplanes. Therefore, all of these models may be subject to the identified unsafe condition. We are issuing this AD to detect and correct fatigue cracking in the aft lower lug run-out region of the deflection control track, which could result in the loss of the secondary load path for the outboard flap, resulting in the loss of the outboard flap and consequent reduced controllability of the airplane in the event that the primary load path also fails, on certain Model 767-200 and -300 series airplanes, serial numbers 922 through 933 inclusive.

Related Service Information Under 1 CFR Part 51

We reviewed Boeing Service Bulletin 767-27A0183, Revision 2, dated September 25, 2014. The service information describes procedures for repetitive HFEC inspections of the aft lower lugs of the deflection control track of the outboard flap for cracks, and replacement of any cracked deflection control track with a new track assembly, part number 113T8333-9, which eliminates the need for the repetitive HFEC inspections. This service information is reasonably available at http://www.regulations.gov by searching for and locating Docket No. FAA-2015-1278. Or see ADDRESSES for other ways to access this service information.

FAA's Determination

We are issuing this AD because we evaluated all the relevant information and determined the unsafe condition described previously is likely to exist or develop in other products of the same type design.

AD Requirements

This AD retains all of the requirements of AD 2004-07-11, Amendment 39-13555 (69 FR 17911, April 6, 2004). This AD continues to require repetitive HFEC inspections of the aft lower lugs of the deflection control track of the outboard flap for cracks, and replacement of any cracked deflection control track with a new track assembly. This AD adds airplane models to the applicability, and provides optional terminating action for the repetitive HFEC inspections even if no crack is found.

Change to AD 2004-07-11, Amendment 39-13555 (69 FR 17911, April 6, 2004)

Since AD 2004-07-11, Amendment 39-13555 (69 FR 17911, April 6, 2004) was issued, the AD format has been revised, and certain paragraphs have been rearranged. As a result, the corresponding paragraph designations have been redesignated in this AD, as listed in the following table:

Revised Paragraph Designations
Requirement in AD 2004-07-11, Amendment 39-13555 (69 FR 17911, April 6, 2004) | Corresponding requirement in this AD
paragraph (a) | paragraph (g)
paragraph (b) | paragraph (h)
paragraph (c) | paragraph (i)

Clarification of Paragraph (c) of AD 2004-07-11, Amendment 39-13555 (69 FR 17911, April 6, 2004)

We have added a reference to paragraph (h) of this AD to the corrective action requirements of paragraph (i) of this AD (which we referred to as paragraph (c) of AD 2004-07-11, Amendment 39-13555 (69 FR 17911, April 6, 2004)). We have made this change to clarify the corrective action.

FAA's Justification and Determination of the Effective Date

This AD revises the applicability by adding airplanes that are not on the U.S. Register. Therefore, we find that notice and opportunity for prior public comment are unnecessary and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include Docket No. FAA-2015-1278 and directorate identifier 2014-NM-223-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

The actions specified by this AD were previously required by AD 2004-07-11, Amendment 39-13555 (69 FR 17911, April 6, 2004), which was applicable to approximately 38 airplanes. The actions required by AD 2004-07-11 take about 5 work-hours per airplane. In consideration of the compliance time and effective date of AD 2004-07-11, we assume that operators of the 38 airplanes subject to that AD have already initiated the required actions.

This AD would add no new costs associated with the airplanes of U.S. registry, but would be applicable to approximately 11 additional airplanes of the affected design in the worldwide fleet. The current costs for this AD are repeated for the convenience of affected operators, as follows:

Estimated Costs—Required Actions
Action | Labor cost | Parts cost | Cost per product | Cost on U.S. operators
Retained inspections from AD 2004-07-11, Amendment 39-13555 (69 FR 17911, April 6, 2004) | 5 work-hours × $85 per hour = $425 per inspection cycle | $0 | $425 per inspection cycle | $16,150 per inspection cycle.

We estimate that it would take about 12 work-hours to do any necessary replacement that would be required based on the results of the inspection. We have received no definitive data that would enable us to provide cost estimates for the on-condition actions specified in this AD. We have no way of determining the number of aircraft that might need these actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-07-11, Amendment 39-13555 (69 FR 17911, April 6, 2004) and adding the following new AD:

2015-09-09 The Boeing Company: Amendment 39-18155; Docket No. FAA-2015-1278; Directorate Identifier 2014-NM-223-AD.

(a) Effective Date

This AD is effective May 27, 2015.

(b) Affected ADs

This AD replaces AD 2004-07-11, Amendment 39-13555 (69 FR 17911, April 6, 2004).

(c) Applicability

This AD applies to The Boeing Company Model 767-200, -300, and -400ER series airplanes, certificated in any category, as identified in Boeing Service Bulletin 767-27A0183, Revision 2, dated September 25, 2014.

(d) Subject

Air Transport Association (ATA) of America Code 27, Flight controls; 57, Wings.

(e) Unsafe Condition

This AD was prompted by our determination that additional airplane models require repetitive high frequency eddy current (HFEC) inspections of the aft lower lugs of the deflection control track of the outboard flap for cracks, and replacement of any cracked deflection control track with a new track assembly. We are issuing this AD to detect and correct fatigue cracking in the aft lower lug run-out region of the deflection control track, which could result in the loss of the secondary load path for the outboard flap, resulting in the loss of the outboard flap and consequent reduced controllability of the airplane in the event that the primary load path also fails.

(f) Compliance

Comply with this AD within the compliance times specified, unless already done.

(g) Retained Initial Inspection for Model 767-400ER Series Airplanes

This paragraph restates the requirements of paragraph (a) of AD 2004-07-11, Amendment 39-13555 (69 FR 17911, April 6, 2004), with revised service information. For airplanes identified in Group 1 in Boeing Service Bulletin 767-27A0183, Revision 2, dated September 25, 2014: Before the accumulation of 12,000 total flight cycles, or within 1,200 flight cycles after May 11, 2004 (the effective date of AD 2004-07-11), whichever occurs later, perform an HFEC inspection for cracks in the aft lower lug of the deflection control track on the outboard flap, in accordance with the Accomplishment Instructions of Boeing Alert Service Bulletin 767-27A0183, dated May 9, 2002; or Boeing Service Bulletin 767-27A0183, Revision 2, dated September 25, 2014. As of the effective date of this AD, only Boeing Service Bulletin 767-27A0183, Revision 2, dated September 25, 2014, may be used.

(h) Retained Repetitive Inspections With New Service Information

This paragraph restates the requirements of paragraph (b) of AD 2004-07-11, Amendment 39-13555 (69 FR 17911, April 6, 2004), with new service information. For airplanes identified in Group 1 in Boeing Service Bulletin 767-27A0183, Revision 2, dated September 25, 2014: If no crack is detected during any HFEC inspection required in paragraph (g) of this AD, repeat the inspection at intervals not to exceed 1,200 flight cycles.

(i) Retained Corrective Action and Added Terminating Action

This paragraph restates the requirements of paragraph (c) of AD 2004-07-11, Amendment 39-13555 (69 FR 17911, April 6, 2004), with revised service information, added terminating action, and added paragraph reference. For airplanes identified in Group 1 in Boeing Service Bulletin 767-27A0183, Revision 2, dated September 25, 2014: If any crack is detected during any HFEC inspection required by paragraph (g) or (h) of this AD, before further flight, replace the deflection control track with a new track assembly, in accordance with the Accomplishment Instructions of Boeing Alert Service Bulletin 767-27A0183, dated May 9, 2002; or Boeing Service Bulletin 767-27A0183, Revision 2, dated September 25, 2014. Within 12,000 flight cycles following the replacement of deflection control track with a deflection control track, part number (P/N) 113T7333-3 or 113T8333-7, perform the HFEC inspection specified in paragraph (g) of this AD, and repeat inspections as specified in paragraph (h) of this AD until the deflection control track is replaced with a deflection control track, P/N 113T8333-9, as specified in paragraph (m) of this AD. As of the effective date of this AD, only Boeing Service Bulletin 767-27A0183, Revision 2, dated September 25, 2014, may be used.

(j) New Initial Inspection for Model 767-200 and -300 Series Airplanes

For airplanes identified in Group 2 in Boeing Service Bulletin 767-27A0183, Revision 2, dated September 25, 2014: Before the accumulation of 12,000 total flight cycles, or within 1,200 flight cycles after the effective date of this AD, whichever occurs later, do an HFEC inspection for cracks in the aft lower lug of the deflection control track on the outboard flap, in accordance with the Accomplishment Instructions of Boeing Service Bulletin 767-27A0183, Revision 2, dated September 25, 2014.

(k) New Repetitive Inspections

For airplanes identified in Group 2 in Boeing Service Bulletin 767-27A0183, Revision 2, dated September 25, 2014: If no crack is detected during any HFEC inspection required in paragraph (j) of this AD, repeat the inspection thereafter at intervals not to exceed 1,200 flight cycles.

(l) New Corrective Action and Terminating Action

For airplanes identified in Group 2 in Boeing Service Bulletin 767-27A0183, Revision 2, dated September 25, 2014: If any crack is detected during any HFEC inspection required by paragraph (j) or (k) of this AD, before further flight, replace the deflection control track with a new track assembly, part number 113T8333-9, in accordance with the Accomplishment Instructions of Boeing Service Bulletin 767-27A0183, Revision 2, dated September 25, 2014. This replacement terminates the inspection requirements of paragraphs (j) and (k) of this AD.

(m) Optional Terminating Action

Replacement of the deflection control track with a new track assembly, P/N 113T8333-9, in accordance with the Accomplishment Instructions of Boeing Service Bulletin 767-27A0183, Revision 2, dated September 25, 2014, terminates the inspection requirements of paragraphs (g), (h), (j), and (k) of this AD.

(n) Credit for Previous Actions

This paragraph provides credit for the actions specified in paragraphs (g), (h), (i), and (m) of this AD, if those actions were performed before the effective date of this AD using Boeing Service Bulletin 767-27A0183, Revision 1, dated April 4, 2014, which is not incorporated by reference in this AD.

(o) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (p)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane and the approval must specifically refer to this AD.

(p) Related Information

(1) For more information about this AD, contact Berhane Alazar, Aerospace Engineer, Airframe Branch, ANM-120S, FAA, Seattle Aircraft Certification Office (ACO), 1601 Lind Avenue SW., Renton, WA 98057-3356; phone: 425-917-6577; fax: 425-917-6590; email: berhane.alazar@faa.gov.

(2) Service information identified in this AD that is not incorporated by reference is available at the addresses specified in paragraphs (q)(5) and (q)(6) of this AD.

(q) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on May 27, 2015.

(i) Boeing Service Bulletin 767-27A0183, Revision 2, dated September 25, 2014.

(ii) Reserved.

(4) The following service information was approved for IBR on May 11, 2004, (69 FR 17911, April 6, 2004).

(i) Boeing Alert Service Bulletin 767-27A0183, dated May 9, 2002.

(ii) Reserved.

(5) For service information identified in this AD, contact Boeing Commercial Airplanes, Attention: Data & Services Management, P.O. Box 3707, MC 2H-65, Seattle, WA 98124-2207; telephone 206-544-5000, extension 1; fax 206-766-5680; Internet https://www.myboeingfleet.com.

(6) You may view this service information at FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on April 29, 2015.
Jeffrey E. Duven,
Manager, Transport Airplane Directorate, Aircraft Certification Service.

[FR Doc. 2015-11137 Filed 5-11-15; 8:45 am]

BILLING CODE 4910-13-P